DEPARTMENT OF COMMERCE

Foreign-Trade Zones Board

[B-35-2015]

Foreign-Trade Zone (FTZ) 54—Clinton County, New York; Notification of Proposed Production Activity; Swarovski Lighting, Ltd. (Lighting Fixtures and Parts); Plattsburgh, New York

The Clinton County Area Development Corporation, grantee of FTZ 54, submitted a notification of proposed production activity to the FTZ Board on behalf of Swarovski Lighting, Ltd. (Swarovski), located in Plattsburgh, New York. The notification conforming to the requirements of the regulations of the FTZ Board (15 CFR 400.22) was received on May 15, 2015.

The Swarovski facility is located within Site 1 of FTZ 54. The facility is used to make custom lighting fixtures and related parts. Pursuant to 15 CFR 400.14(b), FTZ activity would be limited to the specific foreign-status materials and components and specific finished products described in the submitted notification (as described below) and subsequently authorized by the FTZ Board.

Production under FTZ procedures could exempt Swarovski from customs duty payments on the foreign-status components used in export production. On its domestic sales, Swarovski would be able to choose the duty rates during customs entry procedures that apply to wall sconces; chandeliers; suspended chandeliers; pendant lamps; electric household lamps; electric table lamps; electric candelabras; electric floor standing lamps; wall mount light fixtures; high intensity discharge lamp fixtures; halogen lamp fixtures; candle candelabras; candle lamp fixtures; light-emitting diode (LED) illuminated paneling; LED illuminated wall mounts; lamp illuminated paneling; lamp illuminated wall mounts; lighted signs; fixture extensions; and, parts of lamps—scrolls, arms, covers, extenders, sconce plates, brass bodies, bases, finials, bobeches, connectors, hangers, cups, rings, and shafts (duty rates range from 3.9% to 6%) for the foreign status inputs noted below. Customs duties also could possibly be deferred or reduced on foreign-status production equipment.

The components and materials sourced from abroad include: Lacquer; UV-curing glues; anaerobic sealants; plastic crates/cavity trays/bags/o-rings/molded washers/labels; plywood insert packing materials; packing material boxes; brown paper; labels, brown kraft paper; corrugated cardboard strips; reinforced tape; gift bags; cardboard boxes; pocket folders; paperboard; marketing brochures; booklets; instruction manuals/sheets; decals; window stickers; printed cards; consumer brochures; product catalogs; advertising cards; pricelists; tags for color samples; netting; glass mirrors; amethyst balls and drops; fluorite balls and drops; rose quartz drops; rock crystal balls, bases, bobeches, cubes, cylinders, drops, kites, octagons, rosettes, sink bowls, spikes and square bases; smokey quartz pears; gold powder; steel flat bars; hex nuts; steel thumbnuts; brass ball nuts, brass hex nuts; brass hickeys; glass drills; instructional DVDs; dimmer switches; electrical plugs; protection caps; silicon sleeves; chrome connection jacks/connection rings; wire nuts; electrical harness assemblies; porcelain lampholders; lampholders with brackets; rivet sockets; ceramic sockets; stainless steel sockets; socket holders; lampholder connectors; monorail connectors; power adapters; terminal blocks; connection boxes; junction boxes; cable lug connectors; cable clutches; ring wire locking with screw; brackets for European arm sockets; halogen lamps; incandescent lamps; LED remote controls; wire; cord sets < 1000 volts; electrical wiring ≤ 80 volts; quick connectors; electrical insulators; ring fittings; tube fittings; wall sconces; chandeliers; suspended chandeliers; pendant lamps; fixture wall sconces; electric household lamps; electric table lamps; electric candelabras; electric floor standing lamps; wall mount light fixtures; high intensity discharge lamp fixtures; halogen lamp fixtures; candle candelabras; candle lamp fixtures; LED illuminated paneling; LED illuminated wall mounts; lamp illuminated paneling; lamp illuminated wall mounts; lighted signs; lead crystals; glass globes; hurricane shades; glass; glass parts of chandeliers and wall sconces (beads, bobeches, ball sticks, drops, pendants, ovals, candle cups, bowls, bulb covers, columns, scallops, dishes, disks, finials, glass arms, rods, cubes, cylinders, scrolls, sickles, spikes, tulips, prisms, rosettes, lenses, leafs, and electrical housings); glass parts of table, floor and desk lamps (beads, trimsets, bobeches, ball sticks, drops, pendants, ovals, candle cups, bowls, bulb covers, columns, scallops, dishes and disks, finials, glass arms, rods, cubes, cylinders, scrolls, sickles, spikes, tulips, trumpets, prisms, rosettes, lenses, and leafs); plastic lamp parts (sleeves, trays, covers, trumpets, electrical housing, silicone shades, and silicone end caps); brass lamp parts (scrolls, arms, covers, extenders, sconce plates, bodies, bases, finials, bobeches, connectors, hangers, and cups); chrome ferrules and screw sets; other parts of lamps (scrolls, arms, covers, extenders, sconce plates, brass body, bases, finials, bobeches, connectors, hangers, cups, rings, and shafts); fixture extensions; décor disk rings; LED repair kits; and, aluminum reflectors (duty rates range from free to 14.9%). The request indicates that foreign textile material (including netting classified within HTSUS Subheading 5408.10) will be admitted to the zone in privileged foreign status (19 CFR 146.41), thereby precluding inverted tariff benefits on this material.

Public comment is invited from interested parties. Submissions shall be addressed to the FTZ Board's Executive Secretary at the address below. The closing period for their receipt is July 8, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: May 22, 2015.
Elizabeth Whiteman,
Acting Executive Secretary.

[FR Doc. 2015-13035 Filed 5-28-15; 8:45 am]

BILLING CODE 3510-DS-P